DEPARTMENT OF HEALTH AND HUMAN SERVICES

Health Resources and Services Administration

Notice of Supplemental Award; Infant, Child, and Adolescent Preventive Services

AGENCY: Health Resources and Services Administration (HRSA), Department of Health and Human Services.

ACTION: Notice of supplemental award.

SUMMARY: In fiscal year (FY) 2023, HRSA will provide supplemental funds to continue to provide technical assistance to pediatric primary care providers nationwide to connect them with Pediatric Mental Health Care Access (PMHCA) programs in their areas and to increase their capacity to provide pediatric mental and behavioral health care services.

FOR FURTHER INFORMATION CONTACT: Lauren Ramos, Director, Division of Maternal and Child Health Workforce Development, Maternal and Child Health Bureau, Health Resources and Services Administration, at LRamos@hrsa.gov and 301-443-6091.

SUPPLEMENTARY INFORMATION:

Intended Recipient of the Award: The American Academy of Pediatrics (AAP), as the sole recipient under HRSA-23-074.

Amount of Non-Competitive Award: One award for $2,000,000. Supplemental funding for similar activities may be considered in FYs 2024 and 2025, subject to availability of funding for the activity and satisfactory performance of the recipient.

Project Period: September 30, 2023, to September 29, 2024.

CFDA Number: 93.110.

Award Instrument: Supplement for Services.

Authority: 42 U.S.C. 254c-19 (§ 330M of the Public Health Service Act), as amended by Section 11005 of the Bipartisan Safer Communities Act (Pub. L. 117-159)).

Table 1—Recipients and Award Amounts
Grant No. | Award recipient name | City, state | Award amount
U04MC31627 | American Academy of Pediatrics | Itasca, IL | $2,000,000

Justification: Congress provided additional appropriations for the PMHCA program in FY 2022 that have allowed existing PMHCA projects to enhance workforce capacity to address the growing behavioral health needs among children and adolescents. This supplemental funding will support continued expansion of the reach and capacity of PMHCA programs in providing training and tele-consult support to pediatric primary care providers.

Carole Johnson,
Administrator.

[FR Doc. 2023-21485 Filed 9-28-23; 8:45 am]

BILLING CODE 4165-15-P